DEPARTMENT OF THE INTERIOR

Bureau of Land Management

[OR-OR-090-5882-PH-EE01; HAG 07-0139]

Eugene District Resource Advisory Committee: Meeting

Pursuant to the Federal Advisory Committee Act, the Department of the Interior Bureau of Land Management (BLM) announces the following advisory committee meeting:

Name: Eugene District Resource Advisory Committee.

Time and Date: 9 a.m. September 6, 2007; 9 a.m. September 13, 2007.

Place: Eugene District Office, 2890 Chad Drive, Eugene, Oregon 97408.

Status: Open to the public.

Matters to be Considered: The Resource Advisory Committee will consider proposed projects for Title II funding that focus on maintaining or restoring water quality, land health, forest ecosystems, and infrastructure.

Contact Person for More Information: Program information, meeting records and a roster of Committee members may be obtained from Wayne Elliott, Designated Federal Official, Eugene District Office, P.O. Box 10226, Eugene, Oregon 97440, 541 683-6600. The meeting agenda will be posted at http://www.Blm.gov/or/districts/Eugene/index.php when available.

Should you require reasonable accommodation, please contact the BLM Eugene District (541)-683-6600 as soon as possible.

Virginia Grilley,
District Manager.

[FR Doc. E7-12454 Filed 6-26-07; 8:45 am]

BILLING CODE 4310-33-P